DEPARTMENT OF DEFENSE

Department of the Army

Intent To Grant an Exclusive License for U.S. Government-Owned Invention

AGENCY: Department of the Army, DoD.

ACTION: Notice.

SUMMARY: In accordance with applicable laws and regulations, announcement is made of the intent to grant an exclusive within a field of use, royalty-bearing, revocable biological materials license.

ADDRESSES: Commander, U.S. Army Medical Research and Materiel Command, ATTN: Command Judge Advocate, MCMR-JA, 504 Scott Street, Fort Detrick, MD 21702-5012.

FOR FURTHER INFORMATION CONTACT: Mr. Paul Michaels, Office of Research & Technology Applications, (301) 619-4145.

SUPPLEMENTARY INFORMATION: In accordance with 35 U.S.C. 209(e) and 37 CFR 404.7(a)(1)(i), announcement is made of the intent to grant an exclusive within a field of use, royalty-bearing, revocable biological materials license to MP-12, a live attenuated Rift Valley Fever virus vaccine candidate, to Sabin Vaccine Institute, having its principal place of business at 2175 K Street NW, Suite 400, Washington, DC 20037.

Anyone wishing to object to grant of this license can file written objections along with supporting evidence, if any, within 15 days from the date of this publication. Written objections are to be filed with the Command Judge Advocate (see ADDRESSES).

Brenda S. Bowen,
Army Federal Register Liaison Officer.

[FR Doc. 2019-00698 Filed 1-31-19; 8:45 am]

BILLING CODE 5001-03-P